DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On May 19, 2020, OFAC determined that the property and interests in property subject to U.S. jurisdiction of the following persons are blocked under the relevant sanctions authorities listed below.

Entity

1. SHANGHAI SAINT LOGISTICS LIMITED, Rm 910, 9/F, 650 Han Kou Road, Huang Pu District, Shanghai, China; Rm 930, Building C, Cifi Air Center, Shunyi District, Beijing, China; Email Address res@shsaintlog.com; alt. Email Address resbjs@shsaintlog.com; Additional Sanctions Information—Subject to Secondary Sanctions [SDGT] [IFSR] (Linked To: MAHAN AIR).

Designated pursuant to section 1(a)(iii)(A) of Executive Order 13224 of September 23, 2001, “Blocking Property and Prohibiting Transactions With Persons Who Commit, Threaten To Commit, or Support Terrorism,” (E.O. 13224), 3 CFR, 2001 Comp., p. 786, as amended by Executive Order 13886 of September 9, 2019, “Modernizing Sanctions to Combat Terrorism,” 84 FR 48041 (E.O. 13224, as amended) for being owned, controlled, or directed by, or having acted or purported to act for or on behalf of, directly or indirectly, MAHAN AIR, a person whose property and interests in property are blocked pursuant to E.O. 13224, as amended.

Dated: May 19, 2020.
Andrea M. Gacki,
Director, Office of Foreign Assets Control, U.S. Department of the Treasury.

Editorial Note: This document was received for publication by the Office of the Federal Register on February 4, 2021.

[FR Doc. 2021-02702 Filed 2-9-21; 8:45 am]

BILLING CODE 4810-AL-P